DEPARTMENT OF DEFENSE

Department of the Navy

[Docket ID: USN-2026-HQ-0067]

Proposed Collection; Comment Request

AGENCY: Department of the Navy, Department of Defense (DoD).

ACTION: 60-Day information collection notice.

SUMMARY: In compliance with the Paperwork Reduction Act of 1995, Navy Personnel Command announces the proposed reinstatement of a previously approved public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 13, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OPNAV Forms/Information Collections Office (DNS-14), 2000 Navy Pentagon, Room 4E563, Washington, DC 20350-2000, ATTN: Ms. Ashley Alford, or call 703-614-7585.

SUPPLEMENTARY INFORMATION:

Title; Associated Form; and OMB Number: Burial at Sea Request and Checklist; OPNAV Forms 5360/1 and 5360/2; OMB Control Number 0703-0082.

Needs and Uses: The Department of the Navy must collect information to administer the Burial at Sea program, a time-honored tradition to honor the service of deceased veterans. This collection is necessary to confirm the deceased veteran's eligibility and to ensure the ceremony is conducted in compliance with environmental regulations, specifically 40 CFR 229.1.

The information is used in a two-part process. The OPNAV Form 5360/1, “Burial at Sea Request/Authorization,” is used by the Person Authorized to Direct Disposition (PADD) to formally request the burial and provide the necessary documentation to verify the veteran's eligibility. For full casketed remains, the OPNAV Form 5360/2, “Burial at Sea Port Checklist,” is used by the funeral home and the receiving Navy port to ensure the casket is properly prepared for safe transport, storage, and sinking, as required by law.

The respondents are the PADD and, in cases of casketed remains, the funeral home. Without this information collection, the Navy would be unable to verify eligibility, confirm the legal authority of the requester, or ensure the safe and proper disposition of remains, thereby preventing it from carrying out this final honor for veterans.

Affected Public: Individuals or households; Businesses or other for-profit.

Burial at Sea Request/Authorization (OPNAV Form 5360/1)

Annual Burden Hours: 150.

Number of Respondents: 300.

Responses per Respondent: 1.

Annual Responses: 300.

Average Burden per Response: 30 minutes.

Burial at Sea Port Checklist (OPNAV Form 5360/2)

Annual Burden Hours: 30.

Number of Respondents: 20.

Responses per Respondent: 1.

Annual Responses: 20.

Average Burden per Response: 90 minutes.

Total

Annual Burden Hours: 180.

Number of Respondents: 320.

Annual Responses: 320.

Frequency: On occasion.

Dated: February 9, 2026.
Stephanie J. Bost,
Alternate OSD Federal Register Liaison Officer, Department of Defense.

[FR Doc. 2026-02731 Filed 2-10-26; 8:45 am]

BILLING CODE 6001-FR-P